DEPARTMENT OF THE INTERIOR

Bureau of Land Management

[LLMT921000-L13200000.EL0000-15X; MTM 107885; MO#4500077364]

Notice of Invitation To Participate Coal Exploration License Application MTM 107855, Montana

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Decker Coal Company, LLC on a pro rata cost sharing basis in a program for the exploration of coal deposits owned by the United States of America in lands located in Big Horn County, Montana, encompassing 12,618.11 acres.

DATES: Any party seeking to participate in this exploration program must send written notice to both the BLM and Decker Coal Company, LLC as provided in the ADDRESSES section below no later than March 30, 2016 or 10 calendar days after the last publication of this notice in the Sheridan Press newspaper, whichever is later. This notice will be published once a week for 2 consecutive weeks in the Sheridan Press, Sheridan, Wyoming. Such written notice must refer to serial number MTM 107885.

ADDRESSES: The proposed exploration license and plan are available for review from 9 a.m. to 4 p.m., Monday through Friday, in the public room at the BLM Montana State Office, 5001 Southgate Drive, Billings, MT 59101-4669. The exploration license application and exploration plan are also available for viewing on the Montana State Office coal Web site at http://www.blm.gov/mt/st/en/prog/energy/coal.html. A written notice to participate in the exploration licenses should be sent to the State Director, BLM Montana State Office, 5001 Southgate Drive, Billings, MT 59101-4669, and Decker Coal Company, LLC, 170 Main Street, Suite 700, Salt Lake City, UT 84101-1657.

FOR FURTHER INFORMATION CONTACT: Phil Perlewitz, BLM Montana State Office, 406-896-5159, or by email at pperlewi@blm.gov; or Connie Schaff, BLM Montana State Office, 406-896-5060, or by email at cschaff@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Decker Coal Company, LLC has applied to the BLM for a coal exploration license on public lands in Big Horn County, Montana. The exploration activities will be performed pursuant to the Mineral Leasing Act of 1920, as amended, 30 U.S.C. 201(b), and to the regulations at 43 CFR part 3410. The purpose of the exploration program is to gain additional geologic knowledge of the coal underlying the exploration area for the purpose of assessing the coal resources. The BLM regulations at 43 CFR 3410.2-1(c) require the publication of an invitation to participate in coal exploration in the Federal Register. The lands to be explored for coal deposits in exploration license MTM 107885 are described as follows:

Principal Meridian, Montana

T. 9 S., R. 39 E.,

Secs. 12 through 14 and secs. 23 through 26;

T. 8 S., R. 40 E.,

Sec. 27, W½ SW¼ and SW¼ SE¼ SW¼;

Sec. 28, S½ NE¼, S½ NW¼, and S½;

Sec. 29, S½;

Sec. 32, SW¼;

Sec. 34, W½ NW¼ NE¼, N½ NE¼ NW¼, and SE¼ NE¼ NW¼;

T. 9 S., R. 40 E.,

Sec. 2, lots 1 and 2, S½ NE¼, SE¼ NW¼, E½ SW¼, SE¼;

Sec. 4, lot 4, SW¼ NW¼;

Sec. 5, lots 1 through 4, S½ N¼, S½ NW¼, SW¼, N½ SE¼, and SW¼ SE¼;

Sec. 7;

Sec. 8, NW¼ NE¼, NW¼ SW¼ NE¼, NW¼, NW¼ NE¼ SW¼, NW¼ SW¼, and NW¼ SW¼ SW¼;

Sec. 11, N½ NE¼, and NE¼ NW¼;

Sec. 17, W½ SW¼;

Sec. 18;

Sec. 19, lots 1 through 3, E½, E½ NW¼, and E½ SW¼;

Sec. 20, W½ SW¼ NE¼, W½, S½ NE¼ SE¼, NW¼ SE¼, and S½ SE¼;

Sec. 23, E½, E½ NW¼, SW¼ NW¼, and SW¼;

Sec. 24;

Sec. 25, N½, SW¼;

Sec. 26;

Sec. 29, NE¼, N½ SW¼, SW¼ SW¼, and N½ SE¼;

Sec. 30, lots 2 through 4, E½ SW¼, and SE¼;

T. 9 S., R. 41 E.,

Sec. 19, lot 5.

The area described contains approximately 12,618.11 acres.

The Federal coal within the lands described for exploration license MTM 107885 is currently unleased for development of Federal coal reserves.

Authority: 30 U.S.C. 201(b) and 43 CFR 3410.2-1(c).

Phillip C. Perlewitz,
Chief, Branch of Solid Minerals.

[FR Doc. 2016-04308 Filed 2-26-16; 8:45 am]

BILLING CODE 4310-DN-P